DEPARTMENT OF AGRICULTURE

Forest Service

Saguache Ranger District, Rio Grande National Forest; Colorado; La Garita Hills Restoration Project

AGENCY: Forest Service, USDA.

ACTION: Notice of intent to prepare an environmental impact statement.

SUMMARY: The Saguache Ranger District, Rio Grande National Forest (USFS), and San Luis Valley Field Office, Bureau of Land Management (BLM), propose to conduct restoration activities on up to 90,000 acres within the 187,778 acre La Gartia Hills (LGH) analysis area; approximately 145,709 acres are managed by the USFS and 33,294 acres are managed by the BLM. All activities would occur only on federal lands. The analysis area is located west and northwest of the town of La Garita in Saguache County, in south central Colorado. Treatment activities could include mechanical thinning, hand thinning, mastication, hazard tree removal, salvage, prescribed fire, tree planting, and relocation of selected road segments. The treatments will be used singularly or in combination to transition the landscape towards long-term desired future conditions that are more characteristic of a resilient forest, as described in the Rio Grande National Forest and San Luis Resource Area Management Plans. Resilient landscapes are more resistant to droughts, insect outbreaks, diseases, potential large wildfires, and will also offer additional protection to identified values at risk including: adjacent private land and property, water quality, watershed health, transportation systems, recreation sites, wildlife habitats, heritage sites, and timber resources. The USFS is the lead agency for the Environmental Impact Statement and the BLM is participating as a cooperating agency.

DATES: Comments concerning the scope of the analysis must be received by November 17, 2014. The draft environmental impact statement is expected in May 2015 and the final environmental impact statement is expected in August 2015.

ADDRESSES: Send written comments to Diana McGinn, Team Leader, San Luis Valley Public Land Center, 1803 W. Hwy 160, Monte Vista, CO 81144. Electronic comments may be submitted online using the “Comment on Project” option on the project Web page (address below) or emailed to: comments-rocky-mountain-rio-grande-saguache@fs.fed.us, or via facsimile to 719-852-6250, with a subject of LGH Project.

FOR FURTHER INFORMATION CONTACT: Diana McGinn at 719-852-6241 or visit the Forest Web site: http://www.fs.usda.gov/projects/riogrande/landmanagement/projects; look for the La Garita Hills Restoration Project. Individuals who use telecommunication devices for the deaf (TDD) may call the Federal Information Relay Service (FIRS) at 1-800-877-8339 between 8 a.m. and 8 p.m., Eastern Time, Monday through Friday.

SUPPLEMENTARY INFORMATION:

Purpose and Need for Action

The recent extended drought and large wildfires on the Forest and nearby areas have focused attention on the continual declining vigor and health of forests and rangelands in the LGH project area. The purpose and need for this project is move toward achieving long-term desired conditions as described in the land management plans for this area regarding maintaining, improving, or restoring: forest and rangeland health, wildlife habitats, stream, riparian, and watershed health, while providing personal use wood products, safe recreation use, addressing fuel buildup, especially near private lands, and the access to forest products in support of the local rural economy. Strategic investments in vegetation treatments would be used to address these needs.

Proposed Action

In response to the conditions described above, the proposed action is to effectively treat up to 90,000 acres within the 187,778 acre analysis area over a 10 to 15 year period. Combinations of mechanical harvest with product removal, mastication, hand thinning, and prescribed burning will be used to move toward desired conditions related to vegetation structure, species composition, patterns, fuel loading, and health; recovering merchantable forest products from insect or disease mortality areas will also be an objective, as appropriate. Tree planting or aspen regeneration would be used to meet stocking or species composition/diversity goals in selected areas. The overall emphasis will be on reducing conifer density in treated stands to increase landscape diversity and patchiness to protect values at risk. Values at risk include: adjacent private land and property, water quality, watershed health, transportation systems, recreation sites, wildlife habitats, heritage sites, and timber resources. Several treatment activities may occur on the same acres and treatments will occur across a variety of vegetation zones ranging from spruce-fir to piñon-juniper. Several sections of open National Forest System Roads (NFSRs) would be relocated to improve water quality and protect riparian vegetation. No new system roads would be constructed, though additional temporary roads would be needed in some areas for commercial timber harvest operations. All land management plan standards, guidelines, and best management practices will be adhered to and incorporated into project designs.

Possible Alternatives

In this EIS we may use the Iterative Alternative Process to make incremental changes to our initial proposed action to ensure that it is viable and responsive to our ongoing analysis and public comments. The no-action alternative will represent no change from current activities and serves as the baseline for the comparison among the action alternatives. Based on comments received following the initial 2013 scoping, part of one alternative will include no salvage harvest, except hazard trees, in the spruce or spruce mix zones; these vegetation zones are currently being effected by an ongoing spruce beetle epidemic.

Lead and Cooperating Agencies

The USFS is the lead agency for this EIS, the BLM will be a cooperating agency.

Responsible Officials

The Responsible Officials for these decisions will be the USFS Saguache District Ranger and BLM San Luis Resource Area Field Manager located at 46525 State Hwy 114, Saguache, CO 81149.

Nature of Decision To Be Made

An environmental impact statement (EIS) that discloses the environmental consequences of implementing the proposed action or alternatives to the proposed action, including No Action, will be prepared. Separate Record of Decisions (RODs), prepared by each Responsible Official, will explain their decisions regarding the types of treatments, if any, that will be implemented, locations of treatments, monitoring methods to be used, and any adaptive management strategies that will be used to provide future adjustments to the decisions.

Scoping Process

This notice of intent initiates the scoping process, which guides the development of the environmental impact statement. The purpose of the public scoping process is to determine the relevant issues related to the proposed actities in the LGH project area that will influence the scope of the anlaysis and alternatives. The Forest invites public comment and participation for this project by publication of this notice. Comments are also invited by: publication in the USFS quarterly Schedule of Proposed Actions (SOPA); public notice regarding this project in the newspaper of record, the Valley Courier; letters or other communications to potentially interested individuals, tribal governments, elected officials, and State and other Federal Agencies. Information and updates may also be posted on the Rio Grande National Forest project Web site as this project progresses. All comments received during this scoping period and a previous scoping effort in 2013 will be considered.

Comments received in response to this solicitation, including names and addresses of those who comment will be part of the public record for this proposed action. Comments submitted anonymously will be accepted and considered; however anonymous comments will not provide the Agency with the ability to provide the respondent with subsequent environmental documents.

Notice of Importance of Public Participation in Subsequent Environmental Review

Since the analysis area includes federal lands managed by both the Forest Service and BLM, there will be a combined analysis with separate decisions. For the Forest Service, this project will proceed under the objection process (36 CFR part 218 (Subparts A and B)) which provides for an objection period prior to a final decision being made. In order to be eligible to file an objection, specific written comments relating to this project must be submitted; comments must be within the scope of this project and be directly related to this project and be submitted during scoping or other public involvement opportunities and should clearly articulate the reviewer's concerns and contentions. For this project, opportunities for public participation will include this comment period following publication of this Notice of Intent and the 45-day comment period on the draft EIS following publication by the Enviornmental Protection Agency of the Notice of Availability in the Federal Register. It is the responsibility of persons providing comments to submit them by the close of the comment periods. Only those who submit timely and specific written comments will have eligibility (36 CFR 218.5) to file an objection under 36 CFR 218.8.

Dated: October 9, 2014.
James Pitts,
District Ranger.

[FR Doc. 2014-24769 Filed 10-16-14; 8:45 am]

BILLING CODE 3410-11-P